DEPARTMENT OF HEALTH AND HUMAN SERVICES

Centers for Disease Control and Prevention

[Program Announcement 03065]

Building Capacity for Population-Based Surveillance of Autism Spectrum Disorders and Other Developmental Disabilities; Notice of Availability of Funds-Amendment

A notice announcing the availability of Fiscal Year 2003 funds to fund cooperative agreements to population-based surveillance of autism spectrum disorders and other developmental disabilities was published in the Federal Register on May 19, 2003, Volume 68, Number 96, pages 27073-27078. The notice is amended as follows: On page 27074, under Section D., Funding, Availability of Funds, line 9, change “three years” to “two years”.

Dated: May 30, 2003.
Edward Schultz,
Acting Director, Procurement and Grants Office, Centers for Disease Control and Prevention.

[FR Doc. 03-14125 Filed 6-4-03; 8:45 am]

BILLING CODE 4163-18-P